DEPARTMENT OF AGRICULTURE

Animal and Plant Health Inspection Service

[Docket No. APHIS-2018-0091]

Notice of Proposed Revision to Import Requirements for the Importation of Fresh Citrus From South Africa Into the United States

AGENCY: Animal and Plant Health Inspection Service, USDA.

ACTION: Notice.

SUMMARY: We are advising the public that we have prepared a commodity import evaluation document (CIED) relative to the importation into the United States of citrus (grapefruit, lemon, mandarin orange, sweet orange, tangelo, and Satsuma mandarin) fruit from South Africa. Based on the findings of the CIED, we are proposing to remove restrictions on the ports of entry into which citrus from South Africa may be imported into the United States. We are making the CIED available to the public for review and comment.

DATES: We will consider all comments that we receive on or before June 1, 2020.

ADDRESSES: You may submit comments by either of the following methods:

• Federal eRulemaking Portal: Go to http://www.regulations.gov/#!docketDetail;D=APHIS-2018-0091.

• Postal Mail/Commercial Delivery: Send your comment to Docket No. APHIS-2018-0091, Regulatory Analysis and Development, PPD, APHIS, Station 3A-03.8, 4700 River Road Unit 118, Riverdale, MD 20737-1238.

Supporting documents and any comments we receive on this docket may be viewed at http://www.regulations.gov/#!docketDetail;D=APHIS-2018-0091 or in our reading Room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Mr. Tony Roman, Senior Regulatory Policy Specialist, RCC, IRM, PHP, PPQ, APHIS, 4700 River Road Unit 133, Riverdale, MD 20737-1236; (301) 851-2242.

SUPPLEMENTARY INFORMATION:

Background

Under the regulations in “Subpart L-Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 of the regulations provides the requirements for authorizing the importation of fruits and vegetables into the United States, as well as revising existing requirements for the importation of fruits and vegetables. Paragraph (c) of that section provides that the name and origin of all fruits and vegetables authorized importation into the United States, as well as the requirements for their importation, are listed on the internet in APHIS' Fruits and Vegetables Import Requirements database, or FAVIR (https://epermits.aphis.usda.gov/manual). It also provides that, if the Administrator of APHIS determines that any of the phytosanitary measures required for the importation of a particular fruit or vegetable are no longer necessary to reasonably mitigate the plant pest risk posed by the fruit or vegetable, APHIS will publish a notice in the Federal Register making its pest risk documentation and determination available for public comment.

Currently, several citrus species (grapefruit, lemon, mandarin orange, sweet orange, tangelo, and Satsuma mandarin) from South Africa are listed in FAVIR as fruits authorized importation into the United States, subject to the same phytosanitary measures.

One of these phytosanitary measures requires the citrus to be cold treated according to treatment schedule T107-e. This treatment schedule is listed in the Plant Protection and Quarantine Treatment Manual as an effective mitigation for Thaumatotibia leucotreta (false codling moth).¹ False codling moth is known to exist in South Africa and could follow the pathway on fresh citrus fruit imported into the United States.

¹ To view the manual, go to https://www.aphis.usda.gov/import_export/plants/manuals/ports/downloads/treatment.pdf.

We implemented the current treatment schedule for false codling moth on South African citrus in 2013 on a provisional basis, provided that the citrus was only imported into the ports of Newark, NJ, Philadelphia, PA, and Wilmington, DE. We included these port restrictions because T107-e was requested by the national plant protection organization (NPPO) of South Africa as a less stringent alternative to the treatment schedule at the time, T107-k, and because the ports in question had cold treatment facilities if the revised treatment schedule proved to be ineffective. In 2014, we also added Houston, TX, as an authorized port. These port restrictions are also currently found in FAVIR.

Over the following 2 years, we conducted enhanced inspections for false codling moth on citrus from South Africa at the four authorized ports. During that time, more than 2,000 shipments of citrus from South Africa were imported from South Africa into the United States, with no detections of live false codling moth.

Based on these results, the NPPO of South Africa asked that we remove the port restrictions and authorize the importation of citrus from South Africa into all ports of entry within the United States. In response to this request, we have prepared a commodity import evaluation document (CIED) that recommends removing the port restrictions.

Therefore, in accordance with § 319.56-4(c)(3), we are announcing the availability of our CIED for public review and comment. This document, as well as a description of the economic considerations associated with the removal of the port restrictions, may be viewed on the Regulations.gov website or in our reading room (see ADDRESSES above for a link to Regulations.gov and information on the location and hours of the Reading Room). You may request paper copies of these documents by calling or writing to the person listed under FOR FURTHER INFORMATION CONTACT. Please refer to the subject of the analysis you wish to review when requesting copies.

After reviewing any comments we receive, we will announce our decision regarding whether to revise the requirements for the importation of citrus from South Africa in a subsequent notice. If the overall conclusions of our analysis and the Administrator's determination of risk remain unchanged following our consideration of the comments, then we will revise the requirements for the importation of citrus from South Africa as described in this notice.

Authority: 7 U.S.C. 1633, 7701-7772, and 7781-7786; 21 U.S.C. 136 and 136a; 7 CFR 2.22, 2.80, and 371.3.

Done in Washington, DC, this 27th day of March 2020.
Mark Davidson,
Acting Administrator, Animal and Plant Health Inspection Service.

[FR Doc. 2020-06799 Filed 3-31-20; 8:45 am]

BILLING CODE 3410-34-P